DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Networking Suicide Prevention Hotlines—Evaluation of Imminent Risk (OMB No. 0930-0333)—REVISION

The Substance Abuse and Mental Health Services Administration's (SAMHSA), Center for Mental Health Services (CMHS) funds a National Suicide Prevention Lifeline Network (“Lifeline”), consisting of a toll-free telephone number that routes calls from anywhere in the United States to a network of local crisis centers. In turn, the local centers link callers to local emergency, mental health, and social service resources. This project is a revision of the Evaluation of Imminent Risk and builds on previously approved data collection activities [Evaluation of Networking Suicide Prevention Hotlines Follow-Up Assessment (OMB No. 0930-0274) and Call Monitoring of National Suicide Prevention Lifeline Form (OMB No. 0930-0275)]. The extension data collection is an effort to advance the understanding of crisis hotline utilization and its impact.

The overarching purpose of the proposed Evaluation of Imminent Risk data collection is to evaluate hotline counselors' management of imminent risk callers and third party callers concerned about persons at imminent risk, assess counselor adherence to the Lifeline Policies and Guidelines for Helping Callers at Imminent Risk of Suicide, and identify the types of interventions implemented with imminent risk callers. Specifically, the Evaluation of Imminent Risk will collect data, using the Imminent Risk Form-Revised, to inform the network's knowledge of the extent to which counselors are aware of and being guided by Lifeline's imminent risk guidelines; counselors' definitions of imminent risk; the rates of active rescue of imminent risk callers; the types of rescue and non-rescue interventions used; barriers to intervention; and the circumstances in which active rescue is initiated, including the caller's agreement to receive the intervention. To capture differences across centers, the form also collects information on counselors' employment status and hours worked/volunteered, level of education, license status, training status, source of safety planning protocols, and responsibility for follow up.

Clearance is being requested for one activity to assess the knowledge, actions, and practices of counselors to aid callers who are determined to be at imminent risk for suicide and who may require active rescue. This evaluation will allow researchers to examine and understand the actions taken by counselors to aid imminent risk callers, the need for active rescue, the types of interventions used, and, ultimately, improve the delivery of crisis hotline services to imminent risk callers. A total of seven centers will participate in this evaluation. Thus, SAMHSA is requesting OMB review and approval of the Imminent Risk Form-Revised.

Crisis counselors at seven participating centers will record information discussed with imminent risk callers on the Imminent Risk Form-Revised, which does not require direct data collection from callers. As with previously approved evaluations, callers will maintain anonymity. Participating counselors will be asked to complete the form for 100% of their imminent risk calls. At centers with high call volumes, data collection may be limited to designated shifts. This form requests information in 15 content areas, each with multiple sub-items and response options. Response options include open-ended, yes/no, Likert-type ratings, and multiple choice/check all that apply. The form also requests demographic information on the caller, the identification of the center and counselor submitting the form, and the date of the call. Specifically, the form is divided into the following sections: (1) Counselor information, (2) center information, (3) call characteristics (e.g., line called, language spoken, participation of third party), (4) suicidal desire, (5) suicidal intent, (6) suicidal capability, (7) buffers to suicide, (8) interventions agreed to by caller or implemented by counselor without caller's consent, (9) whether imminent risk was reduced enough such that active rescue was not needed, (10) interventions for third party callers calling about a person at imminent risk, (11) whether supervisory consultation occurred during or after the call, (12) barriers to getting needed help to the person at imminent risk, (13) steps taken to confirm whether emergency contact was made with person at risk, (14) outcome of attempts to rescue person at risk, and (15) outcome of attempts to follow-up on the case. The form also includes an Additional Counselor Training section that counselors complete only when applicable. This section includes one new question specifically related to the use of the Lifeline Simulation Training System. The form will take approximately 15 minutes to complete and will be completed by the counselor after the call. It is expected that a total of 440 forms will be completed by 116 counselors over the two-year data collection period.

The estimated response burden to collect this information is annualized over the requested two-year clearance period and is presented below:

Total and Annualized Burden: Respondents, Responses and Hours
Instrument | Number of respondents | Responses/respondent | Total responses | Hours per response | Total hour burden
National Suicide Prevention Lifeline—Imminent Risk Form-Revised | 116 | 1.9 | 220 | .26 | 57

Written comments and recommendations concerning the proposed information collection should be sent by May 7, 2018 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2018-07021 Filed 4-5-18; 8:45 am]

BILLING CODE 4162-20-P